OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Ms. Delores Everett, Center for Leadership and Executive Resources Policy, Division for Strategic Human Resources Policy, 202-606-1050.

SUPPLEMENTARY INFORMATION: Appearing in the listing below are the individual authorities established under Schedule C between May 1, 2004, and May 31, 2004. Future notices will be published on the fourth Tuesday of each month, or as soon as possible thereafter. A consolidated listing of all authorities as of June 30 is published each year.

Schedule A

No Schedule A appointments for May 2004.

Schedule B

No Schedule B appointments for May 2004.

Schedule C

The following Schedule C appointments were approved for May 2004:

Section 213.3303 Executive Office of the President

Office of National Drug Control Policy

QQGS00027 Public Affairs Specialist (Events Manager) to the Press Secretary (Assistant Director). Effective May 14, 2004.

Section 213.3304 Department of State

DSGS60759 Staff Assistant to the Director, Global Aids Coordinator. Effective May 4, 2004.

DSGS60769 Special Assistant to the Under Secretary for Management. Effective May 14, 2004.

DSGS60764 Foreign Affairs Officer to the Assistant Secretary for East Asian and Pacific Affairs. Effective May 18, 2004.

DSGS60770 Foreign Affairs Officer to the Assistant Secretary for International Organizational Affairs. Effective May 19, 2004.

DSGS60772 Senior Advisor to the Assistant Secretary for Western Hemispheric Affairs. Effective May 19, 2004.

DSGS60771 Coordinator for Intergovernmental Affairs to the Assistant Secretary for Public Affairs. Effective May 24, 2004.

DSGS60768 Special Assistant to the Assistant Secretary for Economic and Business Affairs. Effective May 28, 2004.

Section 213.3306 Department of the Defense

DDGS16806 Staff Assistant to the Special Assistant to the Secretary of Defense for White House Liaison. Effective May 06, 2004.

DDGS16809 Staff Specialist to the Under Secretary of Defense (Acquisition, Technology, and Logistics). Effective May 06, 2004.

DDGS16810 Confidential Assistant to the Deputy Under Secretary of Defense. Effective May 06, 2004.

DDGS16803 Staff Assistant to the Deputy Under Secretary of Defense (Special Plans and Near East/South Asian Affairs). Effective May 14, 2004.

DDGS16812 Staff Assistant to the Deputy Assistant Secretary of Defense (Eurasia). Effective May 14, 2004.

DDGS16814 Staff Assistant to the Deputy Assistant Secretary of Defense (Eurasia). Effective May 14, 2004.

DDGS16817 Special Assistant to the Principal Deputy Assistant Secretary of Defense (Legal Affairs). Effective May 20, 2004.

Section 213.3310 Department of Justice

DJGS00044 Research Assistant to the Director, Office of Public Affairs. Effective May 20, 2004.

DJGS00020 Director, Office of Police Corps and Law Enforcement Education to the Assistant Attorney General for Justice Programs. Effective May 27, 2004.

DJGS00114 Special Assistant to the Advisor the Attorney General and White House Liaison. Effective May 27, 2004.

DJGS00130 Counsel to the Assistant Attorney General, Antitrust Division. May 27, 2004.

Section 213.3311 Department of Homeland Security

DMGS00222 Director of Communications for Information Analysis and Infrastructure Protection to the Deputy Assistant Secretary for Public Affairs. Effective May 04, 2004.

DMGS00231 Director of Communications for Science and Technology to the Deputy Assistant Secretary for Public Affairs. Effective May 04, 2004.

DMGS00228 Director of Communications, Office of Domestic Preparedness to the Chief of Staff and Senior Policy Advisor. Effective May 06, 2004.

DMGS00234 Public Affairs Specialist to the Director of Communications for Bureau of Citizenship and Immigration Services. Effective May 14, 2004.

DMGS00232 Press Assistant to the Director of Communications, Office of the Assistant Secretary of Public Affairs. Effective May 18, 2004.

DMGS00236 Special Assistant to the Chief of Staff. Effective May 24, 2004.

DMGS00237 Special Assistant to the Director, Mt. Weather Emergency Operations Division to the Executive Administrator, Emergency Management Center. Effective May 24, 2004.

DMGS00239 Director of Intergovernmental Affairs for Emergency Preparedness and Response to the Chief of Staff. Effective May 27, 2004.

DMGS00240 External Affairs Coordinator to the Chief of Staff. Effective May 27, 2004.

Section 213.3312 Department of the Interior

DIGS61018 Special Assistant to the White House Liaison. Effective May 06, 2004.

DIGS61019 Director-Scheduling and Advance to the Chief of Staff. Effective May 28, 2004.

Section 213.3313 Department of Agriculture

DAGS00709 Special Assistant to the Under Secretary for Rural Development. Effective May 07, 2004.

DAGS00712 Confidential Assistant to the Administrator, Rural Business Service. Effective May 07, 2004.

Section 213.3314 Department of Commerce

DCGS60353 Confidential Assistant to the Assistant Secretary and Director General of United States Foreign Commercial Services. Effective May 10, 2004.

DCGS00327 Senior Advisor to the Deputy Secretary. Effective May 14, 2004.

DCGS00599 Congressional Affairs Specialist to the Director, Office of Legislative Affairs. Effective May 19, 2004.

DCGS00227 Confidential Assistant to the Director, Minority Business Development Agency. Effective May 26, 2004.

DCGS00325 Confidential Assistant to the Director of Global Trade Programs. Effective May 27, 2004.

DCGS60688 Confidential Assistant to the Director of Global Trade Programs. Effective May 27, 2004.

Section 213.3315 Department of Labor

DLGS60017 Senior Legislative Officer to the Assistant Secretary for Congressional and Intergovernmental Affairs. Effective May 18, 2004.

Section 213.3316 Department of Health and Human Services

DHGS60336 Special Assistant to the Deputy Assistant Secretary for Legislation (Human Services) to the Deputy Assistant Secretary for Legislation (Health). Effective May 07, 2004.

DHGS60055 Special Assistant for Grants to the Chief of Staff. Effective May 14, 2004.

DHGS60629 Executive Director, President's Commission on HIV/Aids to the Assistant Secretary, Health. Effective May 14, 2004.

DHGS60684 Special Assistant to the Principal Deputy Assistant Secretary for Legislation. Effective May 14, 2004.

Section 213.3317 Department of Education

DBGS00327 Special Assistant to the Deputy Director of Communications, Office of Public Affairs. Effective May 07, 2004.

DBGS00218 Director, White House Initiative on Tribal Colleges and Universities to the Chief of Staff. Effective May 14, 2004.

DBGS00222 Confidential Assistant to the Senior Advisor to the Secretary. Effective May 24, 2004.

DBGS00331 Special Assistant to the Deputy Under Secretary for Safe and Drug-Free Schools. Effective May 24, 2004.

DBGS60140 Deputy Chief of Staff for Operations to the Chief of Staff. Effective May 27, 2004.

DBGS00332 Special Assistant to the Assistant Secretary for Elementary and Secondary Education. Effective May 28, 2004.

Section 213.3318 Environmental Protection Agency

EPGS04008 Chief of Staff, Office of Air and Radiation to the Assistant Administrator for Air and Radiation. Effective May 05, 2004.

EPGS04011 Special Assistant to the Deputy General Counsel. Effective May 14, 2004.

Section 213.3328 Broadcasting Board of Governors

IBGS00016 Special Assistant to the Chairman, Broadcasting Board of Governors. Effective May 07, 2004.

Section 213.3330 Securities and Exchange Commission

SEOT00056 Legislative Affairs Specialist to the Director of Communications. Effective May 14, 2004.

Section 213.3331 Department of Energy

DEGS00414 Deputy Director of Public Affairs to the Director of Public Affairs. Effective May 14, 2004.

DEGS00418 Special Assistant to the Chief of Staff. Effective May 24, 2004.

DEGS00420 Special Assistant to the Director of Public Affairs. Effective May 25, 2004.

DEGS00416 Deputy Assistant Secretary for Environment and Science to the Assistant Secretary for Congressional and Intergovernmental Affairs. Effective May 26, 2004.

DEGS00419 Special Assistant to the Secretary and Deputy White House Liaison to the Secretary. Effective May 26, 2004.

Section 213.3332 Small Business Administration

SBGS60189 Regional Administrator, Region 10, Seattle Washington to the Associate Administrator for Field Operations. Effective May 04, 2004.

SBGS60531 Senior Advisor to the Associate Deputy Administrator for Capital Access. Effective May 28, 2004.

Section 213.3337 General Services Administration

GSGS01317 Associate Administrator for Performance Improvement to the Administrator. Effective May 04, 2004.

GSGS60113 Special Assistant to the Regional Administrator, Region 1, Boston. Effective May 24, 2004.

GSGS00156 Confidential Assistant to the Administrator. Effective May 27, 2004.

Section 213.3342 Export-Import Bank

EBGS00058 Special Assistant to the Senior Vice President of Communications. Effective May 20, 2004.

Section 213.3352 Government Printing Office

GPSL00001 Chief of Staff to the Deputy Public Printer. Effective May 14, 2004.

GPSL00002 Special Assistant to the Public Printer. Effective May 14. 2004.

GPSL00003 Deputy Chief of Staff to the Chief of Staff. Effective May 14, 2004.

Section 213.3355 Social Security Administration

SZGS60012 Executive Editor to the Associate Commissioner for Retirement Policy. Effective May 14, 2004.

Section 213.3360 Consumer Product Safety Commission

PSGS60003 Special Assistant (Legal) to the Chairman. Effective May 18, 2004.

Section 213.3382 National Endowment for the Arts

NAGS60049 Deputy Congressional Liaison to the Director, Office of Government Affairs. Effective May 19, 2004.

NAGS00053 Director of Research and Analysis to the Chairman, National Endowment for the Arts. Effective May 24, 2004.

Section 213.3384 Department of Housing and Urban Development

DUGS60549 Senior Advisor to the Assistant Secretary for Housing, Federal Housing Commission. Effective May 04, 2004.

DUGS60344 Staff Assistant to the Assistant Secretary for Public Affairs. Effective May 24, 2004. DUGS60396 Staff Assistant to the Director of Executive Scheduling and Operations. Effective May 24, 2004.

Authority: 5 U.S.C. 3301 and 3302; E.O. 10577, 3 CFR 1954-1958 Comp., P.218

Office of Personnel Management.
Kay Coles James,
Director.

[FR Doc. 04-14099 Filed 6-22-04; 8:45 am]

BILLING CODE 6325-39-P